DEPARTMENT OF HEALTH AND HUMAN SERVICES

National Institutes of Health

Center For Scientific Review; Amended Notice of Meeting

Notice is hereby given of a change in the meeting of the Center for Scientific Review Special Emphasis Panel, October 19, 2010, 11 a.m. to October 19, 2010, 5 p.m., National Institutes of Health, 6701 Rockledge Drive, Bethesda, MD 20892 which was published in the Federal Register on September 17, 2010, 75 FR 57042-57043.

The meeting will be two days—October 18, 2010, from 8 a.m. to October 19, 2010, 5 p.m. The meeting location remains the same. The meeting is closed to the public.

Dated: September 28, 2010.
Jennifer S. Spaeth,
Director, Office of Federal Advisory Committee Policy.

[FR Doc. 2010-24783 Filed 10-1-10; 8:45 am]

BILLING CODE 4140-01-P